NATIONAL FOUNDATION ON THE ARTS AND THE HUMANITIES

National Endowment for the Humanities

Meeting of Humanities Panel

AGENCY: National Endowment for the Humanities, National Foundation on the Arts and the Humanities.

ACTION: Notice of meeting.

SUMMARY: The National Endowment for the Humanities (NEH) will hold thirteen meetings, by videoconference, of the Humanities Panel, a Federal advisory committee, during August 2020. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: August 3, 2020

This video meeting will discuss applications on the topics of Medieval Studies and European Literature, for the Fellowships grant program, submitted to the Division of Research Programs.

2. Date: August 4, 2020

This video meeting will discuss applications on the topics of Philosophy and Religion, for the Fellowships grant program, submitted to the Division of Research Programs.

3. Date: August 4, 2020

This video meeting will discuss applications on the topics of Religious Studies and American Studies, for the Fellowships grant program, submitted to the Division of Research Programs.

4. Date: August 5, 2020

This video meeting will discuss applications on the topics of European Studies, Political Science, and Jurisprudence, for the Fellowships grant program, submitted to the Division of Research Programs.

5. Date: August 5, 2020

This video meeting will discuss applications on the topics of Music, Dance, Theater, and Film, for the Fellowships grant program, submitted to the Division of Research Programs.

6. Date: August 6, 2020

This video meeting will discuss applications on the topics of Ancient World and Art History, for the Fellowships grant program, submitted to the Division of Research Programs.

7. Date: August 6, 2020

This video meeting will discuss applications on the topic of Digital Preservation, for the Research and Development grant program, submitted to the Division of Preservation and Access.

8. Date: August 7, 2020

This video meeting will discuss applications on the topics of American Literature and Studies, for the Fellowships grant program, submitted to the Division of Research Programs.

9. Date: August 7, 2020

This video meeting will discuss applications on the topic of Literature, for the Fellowships grant program, submitted to the Division of Research Programs.

10. Date: August 11, 2020

This video meeting will discuss applications on the topic of Digital Heritage, for the Research and Development grant program, submitted to the Division of Preservation and Access.

11. Date: August 12, 2020

This video meeting will discuss applications on the topic of Material Culture, for the Preservation Education and Training grant program, submitted to the Division of Preservation and Access.

12. Date: August 13, 2020

This video meeting will discuss applications on the topic of Services, for the Preservation Education and Training grant program, submitted to the Division of Preservation and Access.

13. Date: August 18, 2020

This video meeting will discuss applications on the topics of Media and Technology, for the Preservation Education and Training grant program, submitted to the Division of Preservation and Access.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: July 13, 2020.
Caitlin Cater,
Attorney-Advisor, National Endowment for the Humanities.

[FR Doc. 2020-15397 Filed 7-15-20; 8:45 am]

BILLING CODE 7536-01-P